POSTAL REGULATORY COMMISSION

[Docket Nos. CP2013-58; Order No. 2215]

New Postal Product

AGENCY: Postal Regulatory Commission.

ACTION: Notice.

SUMMARY: The Commission is noticing a recent Postal Service filing concerning the contingency prices pursuant to an existing International Business Reply Service (IBRS) Competitive Contract 3 negotiated service agreement. This notice informs the public of the filing, invites public comment, and takes other administrative steps.

DATES: Comments are due: October 23, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Filings

III. Ordering Paragraphs

I. Introduction

On October 15, 2014, the Postal Service filed notice that it has established contingency prices pursuant to an existing, albeit expired, International Business Reply Service (IBRS) Competitive Contract 3 negotiated service agreement.¹

¹ Notice of United States Postal Service of Prices Under Functionally Equivalent International Business Reply Service Competitive Contract 3 Negotiated Service Agreement, October 15, 2014 (Notice).

In support of its Notice, the Postal Service includes four attachments: A redacted copy of the notice to the customer of the contingency prices (Attachment 1), a certification of compliance with 39 U.S.C. 3633(a) (Attachment 2), a redacted copy of Governors' Decision No. 08-24 (Attachment 3), and an application for non-public treatment of certain materials (Attachment 4). It also includes supporting financial workpapers.

The Postal Service intends for the contingency prices in Attachment 1 to become effective November 1, 2014. Id. at 3; Id. Attachment 1 at 1.

II. Notice of Filings

The Commission invites comments on whether the changes presented in the Postal Service's Notice are consistent with the policies of 39 U.S.C. 3632, 3633, or 3642, 39 CFR 3015.5, and 39 CFR part 3020, subpart B. Comments are due no later than October 23, 2014. The public portions of the filing can be accessed via the Commission's Web site (http://www.prc.gov).

The Commission appoints Cassie D'Souza to serve as Public Representative in this docket.

III. Ordering Paragraphs

It is ordered:

1. The Commission reopens Docket No. CP2013-58 for consideration of the matters raised by the Postal Service's Notice.

2. Pursuant to 39 U.S.C. 505, Cassie D'Souza is appointed to serve as an officer of the Commission to represent the interests of the general public in these proceedings (Public Representative).

3. Comments by interested persons in these proceedings are due no later than October 23, 2014.

4. The Secretary shall arrange for publication of this order in the Federal Register.

By the Commission.
Shoshana M. Grove,
Secretary.

[FR Doc. 2014-25014 Filed 10-21-14; 8:45 am]

BILLING CODE 7710-FW-P